DEPARTMENT OF HEALTH AND HUMAN SERVICES

Health Resources and Services Administration

Statement of Organization, Functions, and Delegations of Authority

This notice amends Part R of the Statement of Organization, Functions and Delegations of Authority of the Department of Health and Human Services (DHHS), Health Resources and Services Administration (60 FR 56605 as amended November 6, 1995, as last amended at 65 FR 12021-4, dated March 7, 2000).

This notice reflects the organizational and functional changes in the Bureau of Primary Health Care, Division of Program for Special Populations (RCA).

Delete the functional statement for the Division of Program for Special Populations in its entirety and replace with the following: This Division researches issues and develops program plans which identify and address the health care needs of special population groups. Specifically the Division: (1) Develops and implements health care policies and programs for homeless people, substance abusers, the elderly, residents of public housing, at-risk children and youth, Native Hawaiians, Asian Americans and Pacific Islanders, people living with Black Lung Disease, people with mental health disorders, immigrant populations and people living with the threat of lower extremity amputation; (2) coordinates the identification of issues and establishes Agency/Bureau priorities with other Department/ Agency/Bureau programs; (3) directs nationwide efforts to coordinate health care needs of special populations and stimulates State and local assistance in meeting needs; (4) provides guidance and direction in the development of health care partnerships and networks and coordinates management plans with field offices, other Federal programs, State and private organizations and foundations; (5) develops guidance materials and implements plans to assure attainment of measurable outcomes and desired results; (6) coordinates health needs of special populations with other Agency and Bureau programs, ensuring that funds are allocated according to Agency/Bureau priorities and legislative intent; (7) develops and conducts evaluations of service delivery programs for special populations preparing analytic reports and recommendations for increasing scope, effectiveness and efficiency; (8) administers the budget and related grant awards, contracts, and cooperative agreements; and (9) provides leadership and technical guidance in the development and expansion of community-based systems of care that increase access for all and reduce disparities for special populations.

Delegations of Authority

All delegations and redelegations of authority which were in effect immediately prior to the effective date hereof have been continued in effect in them or their successors pending further redelegation.

This reorganization is effective upon date of signature.

Dated: March 21, 2000.
Claude Earl Fox,
Administrator.

[FR Doc. 00-7656 Filed 3-28-00; 8:45 am]

BILLING CODE 4160-15-U